DEPARTMENT OF THE INTERIOR

Geological Survey

[GX.13.GG00.99600.00]

Agency Information Collection Activities: Comment Request

AGENCY: U.S. Geological Survey (USGS), Interior.

ACTION: Notice of an extension of an information collection (1028-0051), Annual Announcement of Availability of Funds.

SUMMARY: To comply with the Paperwork Reduction Act of 1995 (PRA), the U.S. Geological Survey (USGS) is inviting comments on an information collection request (ICR) that we have sent to the Office of Management and Budget (OMB) for review and approval. The Information Collection, which is summarized below, describes the nature and the estimated burden of the collection. As required by the Paperwork Reduction Act (PRA) of 1995, and as part of our continuing efforts to reduce paperwork and respondent burden, we invite the general public and other Federal agencies to take this opportunity to comment on this ICR. This collection is scheduled to expire on February 28, 2013.

DATES: You must submit comments on or before March 27, 2013.

ADDRESSES: You may submit written comments on this information collection directly to the Office of Management and Budget (OMB), Office of Information and Regulatory Affairs, Attention: Desk Officer for the Department of the Interior via email to OIRA_SUBMISSION@omb.eop.gov or fax at 202-395-5806; and identify your submission with Information Collection Number 1028-0051. Please also provide a copy of your comments to the Information Collection Clearance Officer, U.S. Geological Survey, 12201 Sunrise Valley Drive MS 807, Reston, VA 20192 (mail); (703)648-7199 (fax); or smbaloch@usgs.gov (email). Please reference Information Collection Number 1028-0051 in the subject line.

FOR FURTHER INFORMATION CONTACT: To request additional information about this ICR, Elizabeth Lemersal, Earthquake Hazards Program, (703) 648-6716. To see a copy of the entire ICR submitted to OMB, go to http://www.reginfo.gov.

SUPPLEMENTARY INFORMATION:

Title: Earthquake Hazards Program Research and Monitoring.

OMB Control Number: 1028-0051.

Type of Request: Extension of a currently approved collection.

Abstract: Research and monitoring findings are essential to fulfilling USGS's responsibility under the Earthquake Hazards Reduction Act to develop earthquake hazard assessments and recording and reporting earthquake activity nationwide. Residents, emergency responders, and engineers rely on the USGS for this accurate and scientifically sound information. Respondents to Program Announcements submit proposals to support research and monitoring related to earthquake hazard assessments, earthquake causes and effects, and earthquake monitoring. This information is used as the basis for selection and award of projects meeting the USGS's Earthquake Hazards Program objectives. Final reports of research and monitoring findings are required for each funded proposal; annual progress reports are required for awards of a two- to five-year duration. Final reports are made available to the public at the Web site http://earthquake.usgs.gov/research/external/.

I. Data

Title: National Earthquake Hazards reduction Program Annual Announcement of Availability of Funds.

OMB Control Number: 1028-0051.

Type of Request: Extension of a currently approved collection.

Affected Public: Research scientists, engineers, and the general public.

Respondent Obligation: Voluntary; necessary to receive benefits.

Frequency of Collection: Annually: Grant proposals and reporting; Every two to five years: Cooperative Agreement proposals and reporting.

Estimated Annual Number of and Description of Respondents: 250 Educational institutions, and profit and non-profit organizations.

Estimated Annual Number of Responses: 350 (250 applications and narratives and 100 annual and final reports).

Estimated Completion Time: 45 hours per application response and 12 hours per final report.

Estimated Annual Burden Hours: 12,450 (11,250 hours for applications and 1,200 hours for final reports).

Estimated Annual Reporting and Recordkeeping “Hour” Burden: We estimate the public reporting burden will average 45 hours per application response. This includes time to develop project goals, write the statement of work, perform internal proposal reviews, and submit the proposal through grants.gov. We estimate the public reporting burden will average 12 hours per final or annual report response. This includes summarizing accomplishments for the past year's funded efforts.

Estimated Reporting and Recordkeeping “Non-Hour Cost” Burden: We have not identified any “non-hour cost” burdens associated with this collection of information.

II. Request for Comments

On October 31, 2012, we published a Federal Register notice (77 FR 65903) soliciting comments announcing that we would submit this information to OMB for approval. We solicited comments for a period of 60 days, ending on December 31, 2012. We did not receive any comments concerning that notice.

We again invite comments concerning this information collection on: (1) Whether or not the collection of information is necessary, including whether or not the information will have practical utility; (2) the accuracy of our estimate of the burden for this collection of information; (3) ways to enhance the quality, utility, and clarity of the information to be collected; and (4) ways to minimize the burden of the collection of information on respondents.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: February 19, 2013.
William Leith,
Senior Science Advisor for Earthquake and Geologic Hazards.

[FR Doc. 2013-04219 Filed 2-22-13; 8:45 am]

BILLING CODE 4311-AM-P